DEPARTMENT OF VETERANS AFFAIRS

[OMB Control No. 2900-0571]

Agency Information Collection Activity: Customer Satisfaction Surveys

AGENCY: National Cemetery Administration (NCA), Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0571.

SUPPLEMENTARY INFORMATION:

Authority: Public Law 104-13; 44 U.S.C. 3501-3521.

Title: Customer Satisfaction Surveys.

OMB Control Number: 2900-0571.

Type of Review: Extension without change of a currently approved collection.

Abstract: Improving Customer Service through Effective Performance Management, NCA will conduct surveys to determine the level of satisfaction with existing services among their customers. The surveys will solicit voluntary opinions and are not intended to collect information required to obtain or maintain eligibility for a VA program or benefit. Baseline data obtained through these information collections are used to validate customer service standards.

An agency may not conduct or sponsor, and a person is not required to respond to a collection of information unless it displays a currently valid OMB control number. The Federal Register Notice with a 60-day comment period soliciting comments on this collection of information published Friday, February 28, 2020, Volume 85, No. 40, pages 12064 and 12065.

Affected Public: Individuals and households interring Veterans or eligible dependents, and funeral directors facilitating such interments.

I. National Cemetery Mail Surveys

a. National Cemeteries Next of Kin/Family Member and Funeral Director Satisfaction Surveys

Estimated Annual Burden: 14,500 hours.

Estimated Average Burden per Respondent: 30 minutes.

Frequency of Response: On occasion.

Estimated Number of Respondents: 29,000.

b. State or Tribal Veterans Cemeteries Next of Kin/Family Member and Funeral Director Satisfaction Surveys

Estimated Annual Burden: 9,500 hours.

Estimated Average Burden per Respondent: 30 minutes.

Frequency of Response: On occasion.

Estimated Number of Respondents: 19,000.

II. Program/Specialized Service Survey

a. VA Memorial Products Next of Kin/Family Member and Funeral Director Satisfaction Surveys

Estimated Annual Burden: 3,000 hours.

Estimated Average Burden per Respondent: 30 minutes.

Frequency of Response: On occasion.

Estimated Number of Respondents: 6,000.

III. National Cemetery Focus Groups

a. Focus Groups With Next of Kin

Estimated Annual Burden: 150 hours.

Estimated Average Burden per Respondent: 3 hours.

Frequency of Response: On occasion.

Estimated Number of Respondents: 50.

b. Focus Groups With Funeral Directors

Estimated Annual Burden: 150 hours.

Estimated Average Burden per Respondent: 3 hours.

Frequency of Response: On occasion.

Estimated Number of Respondents: 50.

c. Focus Groups With Veteran Service Organizations

Estimated Annual Burden: 150 hours.

Estimated Average Burden per Respondent: 3 hours.

Frequency of Response: On occasion.

Estimated Number of Respondents: 50.

IV. National Cemetery Visitor Comment Cards (Local Use)

Estimated Annual Burden: 208 hours.

Estimated Average Burden per Respondent: 5 minutes.

Frequency of Response: On occasion.

Estimated Number of Respondents: 2,500.

By direction of the Secretary.
Danny S. Green,
Department Clearance Officer, Office of Quality, Performance and Risk, Department of Veterans Affairs.

[FR Doc. 2020-09535 Filed 5-4-20; 8:45 am]

BILLING CODE 8320-01-P